DEPARTMENT OF THE TREASURY

Submission for OMB Review; Comment Request

October 25, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW, Suite 11010, Washington, DC 20220.

DATES: Written comments should be received on or before November 29, 2010 to be assured of consideration.

Internal Revenue Service (IRS)

OMB Number: 1545-2169.

Type of Review: Extension without change to a currently approved collection.

Title: NOTICE-2010-30 (NOTICE 107632-10) Transitional Guidance for Taxpayers Claiming Relief Under the Military Spouses Residency Relief Act for Taxable Year 2009.

Abstract: This notice provides relief for tax year 2009 to civilian spouses of servicemembers who claim the benefits of the taxation provisions under the Military Spouses Residency Relief Act (“MSRRA”). This notice provides certain civilian spouses working in a U.S. territory during 2009 but claiming a residence or domicile in one of the 50 States or the District of Columbia for paying the tax due for their 2009 Federal income tax returns. Additionally, this notice provides certain civilian spouses working in one of the 50 States or the District of Columbia during 2009 but claiming a residence or domicile in a U.S. territory under MSRRA with guidance on filing claims for refund of Federal income taxes that their employers withheld and remitted to the IRS or estimated tax payments the taxpayers paid to the IRS during 2009.

Respondents: Individuals and Households.

Estimated Total Burden Hours: 6,200 hours.

OMB Number: 1545-1610.

Type of Review: Revision to a currently approved collection.

Title: Application for Reward for Original Information.

Form: 5500 and schedules.

Abstract: Form 5500 is an annual information return filed by employee benefit plans. The IRS uses this information to determine if the plan appears to be operating properly as required under the law or whether the plan should be audited.

Respondents: Private Sector: Businesses or other for-profit.

Estimated Total Burden Hours: 320,000 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-27343 Filed 10-28-10; 8:45 am]

BILLING CODE 4830-01-P